INTERNATIONAL TRADE COMMISSION

[Investigation Nos. 701-TA-526 and 731-TA-1262 (Review)]

Melamine From China

Determinations

On the basis of the record ¹ developed in the subject five-year reviews, the United States International Trade Commission (“Commission”) determines, pursuant to the Tariff Act of 1930 (“the Act”), that revocation of the countervailing duty and antidumping duty orders on melamine from China would be likely to lead to continuation or recurrence of material injury to an industry in the United States within a reasonably foreseeable time.

¹ The record is defined in § 207.2(f) of the Commission's Rules of Practice and Procedure (19 CFR 207.2(f)).

Background

The Commission instituted these reviews on November 2, 2020 (85 FR 69359) and determined on February 5, 2021 that it would conduct expedited reviews (86 FR 29594, June 2, 2021).

The Commission made these determinations pursuant to section 751(c) of the Act (19 U.S.C. 1675(c)). It completed and filed its determinations in these reviews on June 30, 2021. The views of the Commission are contained in USITC Publication 5210 (June 2021), entitled Melamine from China: Investigation Nos. 701-TA-526 and 731-TA-1262 (Review).

By order of the Commission.
Issued: June 30, 2021.
Lisa Barton,
Secretary to the Commission.

[FR Doc. 2021-14357 Filed 7-2-21; 8:45 am]

BILLING CODE 7020-02-P